FEDERAL COMMUNICATIONS COMMISSION

Notice of Public Information Collection(s) Being Reviewed by the Federal Communications Commission, Comments Requested

October 25, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 3, 2006. If you anticipate that you will be submitting comments, but find it difficult to do so within the period of time allowed by this notice, you should advise the contact listed below as soon as possible.

ADDRESSES: You may submit your Paperwork Reduction Act (PRA) comments by e-mail or U.S. postal mail. To submit you comments by e-mail send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an e-mail to PRA@fcc.gov or contact Judith B. Herman at 202-418-0214.

SUPPLEMENTARY INFORMATION: OMB Control No.: 3060-0678.

Title: Part 25 of the Commission's Rules Governing the Licensing of, and Spectrum Usage by, Satellite Network Stations and Space Stations.

Form No.: FCC Form 312, Schedule S.

Type of Review: Revision of a currently approved collection.

Respondents: Business or other for-profit.

Number of Respondents: 3,432.

Estimated Time Per Response: 1-80 hours.

Frequency of Response: On occasion and annual reporting requirements, and third party disclosure requirement.

Total Annual Burden: 42,108 hours.

Total Annual Cost: $531,875,000.

Privacy Act Impact Assessment: N/A.

Needs and Uses: On March 15, 2005, the Federal Communications Commission (“Commission”) released a Third Further Notice of Proposed Rulemaking (FCC 05-62) in which it proposed to combine power level requirements and antenna diameter requirements into one off-axis equivalent isotropically radiated power (EIRP) requirement. (Equivalent Isotropically Radiated Power (EIRP) is the product of the gain of the antenna in a given direction relative to an isotropic antenna and the power supplied to that antenna, see 47 CFR Section 2.1). If this proposal is adopted, it would give earth station operators more flexibility in their operations and help expedite its review of some non-routine earth station applications. The Commission invited comment on what revisions would be necessary to its rules to provide protection from interference for earth stations in the event that it adopts an off-axis EIRP requirement for fixed satellite service (FSS) earth stations. Additionally, the Commission invited comment on what specific information should be required from earth station applicants in order to comply with the proposed off-axis EIRP requirement.

The following information collections are proposed in the rulemaking: (1) Earth station applicants will provide a table showing the EIRP of the antenna at various specific off-axis angles, (2) Very Small Aperture Terminal (VSAT) licensees will certify that they will meet any applicable requirements for contention protocols adopted in this proceeding; (3) any party questioning a license applicant's contention protocol certification will provide a technical analysis showing that the applicant's planned contention protocol usage is likely to cause harmful interference to adjacent satellites or terrestrial wireless operations and (4) a certificate of coordination signed by an authorized representative of the National Radio Astronomy Observatory (NRAO) will be made available to the Commission upon request.

If the proposal is adopted by the Commission, it is anticipated that new applications must be developed and revisions to the International Bureau Filing System (IBFS) will be necessary to accommodate off-axis EIRP requirement for earth stations. The specific data to be collected is not known at this time. It is contingent upon comments received from the public, agency funding, and approval by various senior Commission staff. If the proposal is adopted, the Commission will publish a Federal Register notice for public comment in the future.

This information collection is used by the Commission staff in carrying out its duties under the World Trade Organization (WTO) Basic Telecom Agreement. The information is necessary to determine the technical and legal qualifications of applicants or licensees to operate a station transfer or assign a license, and to determine whether the authorization is in the public interest, convenience and necessity. Without such information, applicants and licensees would not obtain the authorization necessary to provide telecommunications services; the Commission would not be able to carry-out its mandate as required by statute; and applicants and licensees would not be able to provide services to the public effectively.

OMB Control No.: 3060-0901.

Title: Reports of Common Carriers and Affiliates.

Form No.: N/A.

Type of Review: Extension of a currently approved collection.

Respondents: Business or other for-profit.

Number of Respondents: 20 respondents; 1,200 responses.

Estimated Time Per Response: 5 hours.

Frequency of Response: On occasion and one-time reporting requirements, and third party disclosure requirement.

Total Annual Burden: 6,000 hours.

Total Annual Cost: N/A.

Privacy Act Impact Assessment: N/A.

Needs and Uses: Common carriers must file copies of all contracts entered into with a communications entity in a foreign point for the provision of common carrier service between the United States and that foreign point. Carriers are exempt from this requirement if the carrier enters into such a contract with a carrier that lacks market power in the relevant foreign market. The information is used by Commission staff to monitor the operating agreements of the U.S. carriers and their foreign correspondents that possess market power, and in particular, to monitor the international accounting rates of such carriers to ensure consistency with Commission policies and the public interest. Without the collection of information, the Commission could not preclude one-way bypass and safeguard its international settlements policy.

Federal Communications Commission.
Marlene H. Dortch,
Secretary.

[FR Doc. 05-21859 Filed 11-1-05; 8:45 am]

BILLING CODE 6712-01-P